DEPARTMENT OF THE INTERIOR

Bureau of Land Management

[AK-040-1430-EU; AA-083994, A-029786]

Notice of Realty Action: Direct Sale, Alaska

AGENCY: Bureau of Land Management, Interior.

ACTION: Notice of Realty Action: Direct Sale of Reversionary Interest of Recreation & Public Purpose Patent, Number 1230095; Chugiak, Alaska.

SUMMARY: Reversionary interest held by the United States in the following lands has been determined to be suitable for direct sale to the Chugiak Benefit Association (CBA), under the authority of section 203 of the Federal Land Policy and Management Act of October 21, 1976 (43 U.S.C. 1713), at no less than the appraised fair market value of $31,649.25. The land is described as T. 15N., R. 1 W., Sec. 9, Lots 16 and 17, and 20 Seward Meridian, Alaska, located southwest of the North Birchwood Interchange, containing 3 acres, more or less. The land is currently owned by CBA, but is restricted by a reversionary clause in the patent. The land is an isolated parcel, difficult and uneconomic to manage as part of the public lands, and not needed for federal purposes. The sale is consistent with BLM's land use planning for the area involved and the public interest will be served by the sale.

FOR FURTHER INFORMATION CONTACT: Callie Webber, Anchorage Field Office, 6881 Abbott Loop Road, Anchorage, Alaska 99507, (907) 267-1272.

SUPPLEMENTARY INFORMATION: This action will accommodate and provide for the expansion of an existing senior housing and community development project, located on adjacent land. Funding is made available through a U.S. Department of Housing and Urban Development grant. The patent, when issued, will be for reversionary interest only. All other terms and conditions of Patent No. 1230095 will continue to apply to the lands involved. For a period of 45 days from the date of publication of this notice in the Federal Register, interested parties may submit comments regarding the proposed direct sale of the reversionary interest to the Anchorage Field Office Manager. Adverse comments will be evaluated, and could result in the modification or vacation of this decision. The reversionary interest will not be offered for conveyance until at least 60 days after the date of this notice.

Dated: March 29, 2002.
June Bailey,
Acting Anchorage Field Office Manager.

[FR Doc. 02-10703 Filed 4-30-02; 8:45 am]

BILLING CODE 4310-JA-P